GENERAL SERVICES ADMINISTRATION

41 CFR Part 105-735

[GSA Case 2011-01; Docket 2011-0007; Sequence 1]

RIN 3090-AJ10

Standards of Conduct

AGENCY: General Services Administration (GSA).

ACTION: Final Rule.

SUMMARY: The General Services Administration (GSA) is removing a part from the Code of Federal Regulations because it no longer provides employees with guidance on employee standards of conduct.

DATES: Effective Date: This final rule is effective March 22, 2011.

FOR FURTHER INFORMATION CONTACT: Ms. Eugenia D. Ellison, Office of General Counsel, General Services Administration, 1275 First Street, NE., Room 528, Washington, DC 20417, (202) 501-0765, FAX (202) 208-0085.

SUPPLEMENTARY INFORMATION:

A. Background

The General Services Administration (GSA) published a final rule at 61 FR 56399, November 1, 1995 which codified GSA's supplemental standards of ethical conduct in the new 5 CFR part 6701. At that time, GSA removed from the CFR its old standards of conduct, which had been codified at 41 CFR part 105-735 and provided a number of cross-references to the new Government-wide standards of ethical conduct regulations and GSA's new supplemental regulations. GSA is removing part 105-735 because the cross-reference to the GSA Order is no longer applicable and employees are familiar with the remaining cross-referenced provisions and no longer refer to 41 CFR part 105-735 for guidance on employee standards of conduct.

B. Administrative Procedure Act

Pursuant to 5 U.S.C. 553(b) and (d), GSA has determined that good cause exists for waiving the general notice of proposed rulemaking and 30-day delay in effectiveness as to these minor revisions. This action is being taken because this rule concerns matters of agency organization, practice and procedure and merely serves to remove a part of the Code of Federal Regulations which no longer provides guidance to GSA employees.

C. Executive Order 12866 and 13563

GSA has determined that this final rule is not a significant rule for the purposes of Executive Order 12866, Regulatory Planning and Review, dated September 30, 1993.

In accordance with Executive Order 13563, Improving Regulation and Regulatory Review, dated January 18, 2011, GSA determined that this rule is not excessively burdensome to the public, and is consistent with 5 U.S.C. 7301.

D. Regulatory Flexibility Act

GSA has determined under the Regulatory Flexibility Act (5 U.S.C. 601 et seq.) that this rulemaking will not have significant economic impact on a substantial number of small entities because it relates solely to agency management and personnel.

E. Paperwork Reduction Act

The Paperwork Reduction Act does not apply because this rulemaking does not impose recordkeeping or information collection requirements, or the collection of information from offerors, contractors, or members of the public that require the approval of the Office of Management and Budget under 44 U.S.C. chapter 35.

F. Small Business Regulatory Enforcement Fairness Act

This final rule is also exempt from congressional review prescribed under 5 U.S.C. 801 since it relates solely to agency management and personnel.

List of Subjects in 41 CFR Part 105-735

Conflict of interests, Ethical standards, Executive branch standards of conduct. Government Employees.

Dated: February 1, 2011.
Martha Johnson,
Administrator of General Services.

Accordingly, under the authority of 5 U.S.C. 7301 and for the reasons set forth in the preamble, the General Services Administration is amending title 41, chapter 105, of the Code of Federal Regulations by removing part 105-735.

[FR Doc. 2011-6608 Filed 3-21-11; 8:45 am]

BILLING CODE 6820-FM-P